DEPARTMENT OF ENERGY

Federal Energy Regulatory Commission

Combined Notice of Filings #1

Take notice that the Commission received the following exempt wholesale generator filings:

Docket Numbers: EG20-27-000.

Applicants: Bitter Ridge Wind Farm, LLC.

Description: Notice of Self-Certification of Exempt Wholesale Generator Status of Bitter Ridge Wind Farm, LLC.

Filed Date: 11/8/19.

Accession Number: 20191108-5109.

Comments Due: 5 p.m. ET 11/29/19.

Take notice that the Commission received the following electric corporate filings:

Docket Numbers: EC20-5-000.

Applicants: 83WI 8me, LLC, Blue Canyon Windpower LLC, Burgess Biopower LLC, Dempsey Ridge Wind Farm, LLC, EcoGrove Wind, LLC, Flat Water Wind Farm, LLC, Lily Solar, LLC, Lily Solar Lessee, LLC, Persimmon Creek Wind Farm 1, LLC, Red Hills Wind Project, L.L.C., Roth Rock Wind Farm, LLC, Tatanka Wind Power, LLC, TPW Petersburg, LLC, X-elio Energy SC York, LLC, Brookfield Renewable Power Ltd., Longview Power, LLC, Nevada Solar One, LLC.

Description: Supplement to October 4, 2019 Application for Authorization Under Section 203 of the Federal Power Act, et al. of 83WI 8me, LLC, et al.

Filed Date: 11/8/19.

Accession Number: 20191108-5104.

Comments Due: 5 p.m. ET 11/18/19.

Docket Numbers: EC20-15-000.

Applicants: Bicent (California) Malburg LLC, BIV Generation Company, L.L.C., Cayuga Operating Company, LLC, Colorado Power Partners, Somerset Operating Company, LLC, Tanner Street Generation, LLC.

Description: Application for Authorization Under Section 203 of the Federal Power Act, et al. of Bicent (California) Malburg LLC, et al.

Filed Date: 11/7/19.

Accession Number: 20191107-5199.

Comments Due: 5 p.m. ET 11/29/19.

Take notice that the Commission received the following electric rate filings:

Docket Numbers: ER19-1077-002.

Applicants: Wildcat Wind Farm I, LLC.

Description: Compliance filing: Compliance Filing Under Docket ER19-1077-000 to be effective 4/20/2019.

Filed Date: 11/8/19.

Accession Number: 20191108-5007.

Comments Due: 5 p.m. ET 11/29/19.

Docket Numbers: ER19-1683-000; TS19-3-000.

Applicants: Wildhorse Wind Energy, LLC, Southern Power Company.

Description: Amendment to April 26, 2019 Petition for Waiver of the requirement of Order Nos. 888, et al. of Wildhorse Wind Energy, LLC.

Filed Date: 11/8/19.

Accession Number: 20191108-5092.

Comments Due: 5 p.m. ET 11/18/19.

Docket Numbers: ER20-99-001.

Applicants: Evergy Kansas Central, Inc.

Description: Compliance filing: Amendment to a Notice of Succession & Refile Tariff (Baseline Filing), OATT to be effective 12/16/2019.

Filed Date: 11/8/19.

Accession Number: 20191108-5074.

Comments Due: 5 p.m. ET 11/29/19.

Docket Numbers: ER20-335-000.

Applicants: McKenzie Electric Cooperative, Inc.

Description: Baseline eTariff Filing: Initial Filing of Generating Facility Interconnection Agreement to be effective 11/8/2019.

Filed Date: 11/7/19.

Accession Number: 20191107-5164.

Comments Due: 5 p.m. ET 11/29/19.

Docket Numbers: ER20-336-000.

Applicants: Jersey Central Power & Light Company, PJM Interconnection, L.L.C.

Description: § 205(d) Rate Filing: JCP&L submits Interconnection Agreement SA No. 4920 to be effective 1/6/2020.

Filed Date: 11/7/19.

Accession Number: 20191107-5165.

Comments Due: 5 p.m. ET 11/29/19.

Docket Numbers: ER20-337-000.

Applicants: PJM Interconnection, L.L.C.

Description: Tariff Cancellation: Notice of Cancellation of WMPA/SA No. 4386; Queue No. AB1-049 to be effective 11/12/2019.

Filed Date: 11/7/19.

Accession Number: 20191107-5166.

Comments Due: 5 p.m. ET 11/29/19.

Docket Numbers: ER20-338-000; TS20-1-000.

Applicants: McKenzie Electric Cooperative, Inc.

Description: Request for Waiver of Open-Access Requirements of Order Nos. 888, et al. of McKenzie Electric Cooperative, Inc.

Filed Date: 11/7/19.

Accession Number: 20191107-5201.

Comments Due: 5 p.m. ET 11/29/19.

Docket Numbers: ER20-339-000.

Applicants: Twiggs County Solar, LLC.

Description: Baseline eTariff Filing: Application for Market Based Rate to be effective 11/14/2019.

Filed Date: 11/8/19.

Accession Number: 20191108-5033.

Comments Due: 5 p.m. ET 11/29/19.

Docket Numbers: ER20-340-000.

Applicants: Duke Energy Carolinas, LLC.

Description: § 205(d) Rate Filing: DEC-DEP SA No. 514 ASOA (Asheville CC) to be effective 11/15/2019.

Filed Date: 11/8/19.

Accession Number: 20191108-5059.

Comments Due: 5 p.m. ET 11/29/19.

Docket Numbers: ER20-341-000.

Applicants: Duke Energy Progress, LLC.

Description: § 205(d) Rate Filing: DEP-DEC Asheville CC ASOA Concurrence Filing (SA No. 362) to be effective 11/15/2019.

Filed Date: 11/8/19.

Accession Number: 20191108-5061.

Comments Due: 5 p.m. ET 11/29/19.

Docket Numbers: ER20-342-000.

Applicants: PJM Interconnection, L.L.C.

Description: Tariff Cancellation: Notice of Cancellation WMPA/SA No. 4387; Queue No. AB1-050 to be effective 11/12/2019.

Filed Date: 11/8/19.

Accession Number: 20191108-5073.

Comments Due: 5 p.m. ET 11/29/19.

Docket Numbers: ER20-343-000.

Applicants: PJM Interconnection, L.L.C.

Description: Tariff Cancellation: Notice of Cancellation of WMPA/SA No. 4388; Queue No. AB1-051 to be effective 11/12/2019.

Filed Date: 11/8/19.

Accession Number: 20191108-5103.

Comments Due: 5 p.m. ET 11/29/19.

Docket Numbers: ER20-344-000.

Applicants: PJM Interconnection, L.L.C.

Description: Tariff Cancellation: Notice of Cancellation of WMPA/SA No. 4389; Queue No. AB1-052 to be effective 11/12/2019.

Filed Date: 11/8/19.

Accession Number: 20191108-5121.

Comments Due: 5 p.m. ET 11/29/19.

Docket Numbers: ER20-345-000.

Applicants: Consolidated Edison Company of New York, Inc.

Description: Notice of Termination of the PARS Facilities Agreement of New York Independent System Operator, Inc., on behalf of Consolidated Edison Company of New York, Inc.

Filed Date: 11/8/19.

Accession Number: 20191108-5128.

Comments Due: 5 p.m. ET 11/29/19.

Docket Numbers: ER20-346-000.

Applicants: Startrans IO, LLC.

Description: § 205(d) Rate Filing: TRBAA 2020 Update to be effective 1/1/2020.

Filed Date: 11/8/19.

Accession Number: 20191108-5153.

Comments Due: 5 p.m. ET 11/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2019.
Kimberly D. Bose,
Secretary.

[FR Doc. 2019-24812 Filed 11-14-19; 8:45 am]

BILLING CODE 6717-01-P